CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps Member Satisfaction Surveys to the Office of Management and Budget (OMB) for review and approval in accordance with the Paperwork Reduction Act of 1995, Pub. L. 104-13, (44 U.S.C. Chapter 35). Copies of this ICR, with applicable supporting documentation, may be obtained by calling the Corporation for National and Community Service, LaMonica Shelton at (202) 606-5000, ext. 464. Individuals who use a telecommunications device for the deaf (TTY-TDD) may call (202) 565-2799 between 8:30 a.m. and 5 p.m. eastern time, Monday through Friday.

DATES: Comments must be received on or before May 31, 2005.

ADDRESSES: Comments may be submitted, identified by the title of the information collection activity, to the Office of Information and Regulatory Affairs, Attn: Ms. Katherine Astrich, OMB Desk Officer for the Corporation for National and Community Service, by any of the following two methods:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 18, 2004. This comment period ended January 18, 2005. No public comments were received from this notice.

Description: The Corporation is seeking approval of the document entitled AmeriCorps Member Satisfaction Surveys. The Corporation for National and Community Service, through its national service programs and projects: (1) Provides opportunities for all Americans to serve; (2) affords members with meaningful, valuable, and enriching experiences (such as through leadership training, technical assistance, and citizenship training development); and (3) supports a continued ethic of volunteer service. The service opportunities available to members cover a wide range of activities over varying periods of time. The Corporation plans to administer a member satisfaction that will allow members to provide information about their satisfaction with their AmeriCorps program or project, and with their overall AmeriCorps service experience.

Type of Review: New.

Agency: Corporation for National and Community Service.

Title: AmeriCorps Member Satisfaction Surveys.

OMB Number: None.

Agency Number: None.

Affected Public: Individuals who are serving in AmeriCorps sponsored programs and projects; state government and non-profit organizations that sponsor members.

Total Respondents: 71,570.

Frequency: Semi-annual.

Average Time per Response: 10 minutes.

Estimated Total Burden Hours: 23,262 hours.

Total Burden Cost (capital/startup): None.

Total Burden Cost (operating/maintenance): None.

Dated: April 21, 2005.
Robert T. Grimm,
Director of Research and Policy Development.

[FR Doc. 05-8517 Filed 4-27-05; 8:45 am]

BILLING CODE 6050-$$-P